DEPARTMENT OF TRANSPORTATION

Federal Aviation Administration

14 CFR Part 39

[Docket No. FAA-2006-25965; Directorate Identifier 2006-NM-127-AD; Amendment 39-15013; AD 2007-07-08]

RIN 2120-AA64

Airworthiness Directives; Airbus Model A300 B2 and B4 Series Airplanes Equipped With General Electric CF6-50 Engines

AGENCY: Federal Aviation Administration (FAA), Department of Transportation (DOT).

ACTION: Final rule.

SUMMARY: The FAA is superseding an existing airworthiness directive (AD), which applies to Airbus Model A300 B2 and B4 series airplanes equipped with General Electric CF6-50 engines. That AD currently requires deactivating both thrust reversers and revising the airplane flight manual (AFM) to require performance penalties during certain takeoff conditions to ensure that safe and appropriate performance is achieved for airplanes on which both thrust reversers have been deactivated. This new AD requires one-time inspections of the directional pilot valve (DPV), the rocker arm and associated hardware, and corrective actions if necessary; reactivation of both thrust reversers; and repetitive inspections of the DPV and the associated control mechanism of the thrust reversers for incorrect assembly or excessive wear, and corrective actions if necessary. Accomplishing all of the actions would allow the removal of the AFM limitations in the existing AD. This AD results from reports indicating that the DPV was assembled incorrectly; further investigation revealed excessive wear on certain correctly assembled DPVs and the associated control mechanism. We are issuing this AD to prevent uncommanded in-flight deployment of a thrust reverser, which could result in reduced controllability of the airplane.

DATES: This AD becomes effective May 10, 2007.

The Director of the Federal Register approved the incorporation by reference of certain publications listed in the AD as of May 10, 2007.

On May 6, 2002 (67 FR 21569, May 1, 2002), the Director of the Federal Register approved the incorporation by reference of Airbus All Operators Telex A300/78A0023, dated April 5, 2002.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Tom Stafford, Aerospace Engineer, International Branch, ANM-116, FAA, International Branch, Transport Airplane Directorate, 1601 Lind Avenue, SW., Renton, Washington, 98057-3356; telephone (425) 227-1622; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 2002-08-51, amendment 39-12728 (67 FR 21569, May 1, 2002). The existing AD applies to Airbus Model A300 B2 and B4 series airplanes equipped with General Electric CF6-50 engines. That NPRM was published in the Federal Register on October 3, 2006 (71 FR 58318). That NPRM proposed to continue to require deactivating both thrust reversers and revising the airplane flight manual (AFM) to require performance penalties during certain takeoff conditions to ensure that safe and appropriate performance is achieved for airplanes on which both thrust reversers have been deactivated. That NPRM also proposed to require one-time inspections of the directional pilot valve (DPV), the rocker arm and associated hardware, and corrective actions if necessary; reactivation of both thrust reversers; and repetitive inspections of the DPV and the associated control mechanism of the thrust reversers for incorrect assembly or excessive wear, and corrective actions if necessary.

Comments

We provided the public the opportunity to participate in the development of this AD. We have considered the comments that have been received on the NPRM.

Request To Change Compliance Times

TradeWinds Airlines asks that we add a grace period of 18 months to the compliance time specified in paragraph (h) of the NPRM. Paragraph (h) specifies doing the actions within 18 months after doing the actions in paragraph (g) of the NPRM. Paragraph (g) of the NPRM refers to service information dated May 29, 2002; therefore, operators may have done the actions more than 18 months ago.

Airbus and ASTAR Air Cargo ask that we extend the 18-month compliance time specified in paragraph (h) of the NPRM, as follows:

ASTAR asks that it be extended to 36 months after doing the actions required by paragraph (g) of the NPRM. ASTAR states that Airbus Service Bulletin A300-78-0025, Revision 01, dated February 16, 2005, is approved under the European Aviation Safety Agency (EASA) authority and states that if Airbus All Operators Telex (AOT) A300-78A0024, dated May 29, 2002, is accomplished, the inspection is to be done every 36 months or 8,000 flight hours, whichever occurs first. ASTAR believes that if Airbus AOT A300-78A0024 is accomplished, it meets the initial inspection intent of Airbus Service Bulletin A300-78-0025, and a repeat interval of 8,000 flight hours is required, as stated in Direction Générale de l'Aviation Civile (DGAC) French airworthiness directive F-2005-208, dated December 21, 2005 (which is a parallel AD for the specified actions). ASTAR notes that, since paragraph (g) of the NPRM requires accomplishing Airbus AOT 78A0024, the compliance time specified in paragraph (h) of the NPRM should be 8,000 flight hours. ASTAR adds that this change would align the NRPM with DGAC airworthiness directive F-2005-208 and European Aviation Safety Agency (EASA) approval of Airbus Service Bulletin A300-78-0025. ASTAR suggests that paragraph (h) of the NPRM be changed as follows: “Within 36 months after accomplishing paragraph (g) of this AD: Do a detailed inspection of the DPV and the associated control mechanism of the thrust reverser for incorrect assembly or excessive wear * * * .”

Airbus states that the compliance time specified in paragraph (h) of the NPRM is not the same as the one provided in the referenced service bulletin and in French airworthiness directive F-2005-208. Airbus notes that the compliance time specifies: “For a/c on which AOT 78A0024 is not accomplished: perform ISB at the earliest opportunity without exceeding 18 months. Repeat inspection every 8000FH.” And, “For a/c on which AOT 78A0024 is accomplished: repetitive inspection using ISB must not exceed 8000FH after initial inspection (iaw AOT), then every 8000FH.” Airbus adds that, in French airworthiness directive F-2005-208, the initial inspection in accordance with Airbus Service Bulletin A300-78-0025 is mandated with 18 months only for aircraft on which AOT A300-78A0024 has not been accomplished. Airbus notes that, as long as the FAA AD mandates accomplishment of the AOT as initial inspection (paragraph (g) of this AD), it considers accomplishment of Airbus Service Bulletin A300-78-0025 within 18 months an additional constraint which was not originally recommended in Airbus Service Bulletin A300-78-0025 or French airworthiness directive F-2005-208. Airbus concludes that, based on these comments, paragraph (h) should mandate Airbus Service Bulletin A300-78-0025 for repetitive inspections, with intervals not exceeding 8,000 flight hours after the initial inspection (in accordance with paragraph (g) of the NPRM).

We agree to extend the compliance time specified in paragraph (h) of this AD to within 36 months after the effective date of this AD, or within 8,000 flight hours after accomplishing the actions required by paragraph (g) of this AD, whichever is first, for the reasons provided.

Request To Clarify Intent of AD

ASTAR asks for clarification if the intent of the NPRM is not to allow operation of the aircraft with one thrust reverser inoperative by using Minimum Equipment List (MEL) relief nor special ferry flights if discrepancies are found during inspection. ASTAR notes that, as stated in paragraph (h) of the NPRM, the aircraft must have applicable corrective actions before further flight. ASTAR also notes that the Airbus service bulletin requires inspection of the DPV by an approved workshop, which in most cases means a serviceable DPV will need to be installed during each inspection.

To clarify, the intent of this AD is to require the reactivation of both thrust reversers after certain actions required by this AD are accomplished. It is not our intent to prohibit use of the relief provided by the Master Minimum Equipment List (MMEL) in the case of one or more thrust reversers being inoperative. After reactivating the thrust reversers, an airplane may be operated with one or more thrust reversers inoperative in accordance with the MMEL. We have revised paragraph (h) of the AD to include this clarification.

Concerning the use of special flight permits: On July 10, 2002, the FAA issued a new version of 14 CFR part 39 (67 FR 47997, July 22, 2002), which governs the FAA's airworthiness directives system. The regulation now includes material that relates to special flight permits. Therefore, an AD will address special flight permits only if they are not allowed, or only allowed with specific limitations. It is not our intent to restrict the use of special flight permits, and this AD specifies no such restriction. We have not changed the AD in this regard.

Request To Incorporate/Publish Certain Information

The Modification and Replacement Parts Association (MARPA) states that, frequently, airworthiness directives are based on service information originating with the type certificate holder or its suppliers. MARPA adds that manufacturer service documents are privately authored instruments generally having copyright protection against duplication and distribution. MARPA notes that when a service document is incorporated by reference into a public document, such as an airworthiness directive, it loses its private, protected status and becomes a public document. MARPA adds that if a service document is used as a mandatory element of compliance, it should not simply be referenced, but should be incorporated into the regulatory document. MARPA states that, by definition, public laws must be public, which means they cannot rely upon private writings, especially when the private writings originate in a foreign country. MARPA notes that since the interpretation of a document is a question of law and not fact, a service document not incorporated by reference will not be considered in a legal finding of the meaning of an airworthiness directive. MARPA is concerned that the failure to incorporate essential service information could result in a court decision invalidating the airworthiness directive.

MARPA adds that incorporated-by-reference service documents should be made available to the public by publication in the Docket Management System (DMS), keyed to the action that incorporates them. MARPA notes that the stated purpose of the incorporation by reference method is brevity, to keep from expanding the Federal Register needlessly by publishing documents already in the hands of the affected individuals; traditionally, “affected individuals” means aircraft owners and operators, who are generally provided service information by the manufacturer. MARPA adds that a new class of affected individuals has emerged, since the majority of aircraft maintenance is now performed by specialty shops instead of aircraft owners and operators. MARPA notes that this new class includes maintenance and repair organizations, component servicing and repair shops, parts purveyors and distributors, and organizations manufacturing or servicing alternatively certified parts under section 21.303 (“Replacement and modification parts”) of the Federal Aviation Regulations (14 CFR 21.303). MARPA adds that the distribution to owners may, when the owner is a financing or leasing institution, not actually reach the persons responsible for accomplishing the airworthiness directive. Therefore, MARPA asks that the service documents deemed essential to the accomplishment of the NPRM be incorporated by reference into the regulatory instrument, and published in the DMS.

We understand MARPA's comment concerning incorporation by reference. The Office of the Federal Register (OFR) requires that documents that are necessary to accomplish the requirements of the AD be incorporated by reference during the final rule phase of rulemaking. This final rule incorporates by reference the documents necessary for the accomplishment of the requirements mandated by this AD. Further, we point out that while documents that are incorporated by reference do become public information, they do not lose their copyright protection. For that reason, we advise the public to contact the manufacturer to obtain copies of the referenced service information.

In regard to MARPA's request to post service bulletins on the Department of Transportation's DMS, we are currently in the process of reviewing issues surrounding the posting of service bulletins on the DMS as part of an AD docket. Once we have thoroughly examined all aspects of this issue and have made a final determination, we will consider whether our current practice needs to be revised. We have not changed the AD in this regard.

Explanation of Change to Applicability

We have revised the applicability of the existing AD to identify model designations as published in the most recent type certificate data sheet for the affected models.

Conclusion

We have carefully reviewed the available data, including the comments that have been received, and determined that air safety and the public interest require adopting the AD with the changes described previously. These changes will neither increase the economic burden on any operator nor increase the scope of the AD.

Costs of Compliance

This AD affects about 30 airplanes of U.S. registry.

The actions that are required by AD 2002-08-51 and retained in this AD take about 3 work hours per airplane, at an average labor rate of $80 per work hour. Based on these figures, the estimated cost of the currently required actions is $7,200, or $240 per airplane.

The new inspection and reactivation procedures specified in Airbus AOT A300-78A0024 take about 9 work hours per airplane, at an average labor rate of $80 per work hour. Based on these figures, the estimated cost of the new inspection and reactivation specified in this AD for U.S. operators is $21,600, or $720 per airplane.

The new inspections specified in Airbus Service Bulletin A300-78-0025 take about 7 work hours per airplane, at an average labor rate of $80 per work hour. Based on these figures, the estimated cost of the new inspections specified in this AD for U.S. operators is $16,800, or $560 per airplane, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-12728 (67 FR 21569, May 1, 2002) and by adding the following new airworthiness directive (AD):

2007-07-08 AIRBUS: Amendment 39-15013. Docket No. FAA-2006-25965; Directorate Identifier 2006-NM-127-AD.

Effective Date

(a) This AD becomes effective May 10, 2007.

Affected ADs

(b) This AD supersedes AD 2002-08-51.

Applicability

(c) This AD applies to Airbus Model A300 B-2 and B-4 series airplanes, certificated in any category, equipped with General Electric CF6-50 engines.

Unsafe Condition

(d) This AD results from reports indicating that the directional pilot valve (DPV) was assembled incorrectly; further investigation revealed excessive wear on certain correctly assembled DPVs and the associated control mechanism. We are issuing this AD to prevent uncommanded in-flight deployment of a thrust reverser, which could result in reduced controllability of the airplane.

Compliance

(e) You are responsible for having the actions required by this AD performed within the compliance times specified, unless the actions have already been done.

Restatement of Requirements of AD 2002-08-51:

Thrust Reverser Deactivation and Airplane Flight Manual (AFM) Revision

(f) Within 72 clock hours after May 6, 2002 (the effective date of AD 2002-08-51), accomplish paragraphs (f)(1) and (f)(2) of this AD.

(1) Deactivate both thrust reversers according to Airbus All Operators Telex A300/78A0023, dated April 5, 2002.

(2) Revise the Limitations Section of the AFM to include the following (this may be accomplished by inserting a copy of this AD into the AFM):

“When the runway is wet or contaminated, reduce by five percent the corrected acceleration-stop distance resulting from the airplane flight manual takeoff performance analysis.

(Note: This supersedes any relief provided by the Master Minimum Equipment List (MMEL).)”

New Requirements of This AD:

Inspections and Corrective Actions

(g) Within 6 months after the effective date of this AD: Do the actions specified in paragraphs (g)(1), (g)(2), and (g)(3) of this AD in consecutive order, in accordance with the procedures specified in Airbus All Operators Telex (AOT) A300-78A0024, dated May 29, 2002, which ends the requirements in paragraph (f) of this AD.

(1) Do a detailed inspection of the DPV on each thrust reverser for incorrect assembly, incorrect diameter, or excessive wear, by doing all the applicable actions, including all applicable corrective actions. All applicable corrective actions must be done before further flight.

(2) Do a detailed inspection of the rocker arm of the DPV for excessive wear by doing all the applicable actions, including all applicable corrective actions. All applicable corrective actions must be done before further flight.

(3) Reactivate both thrust reversers and do a one-time operational test before further flight.

Note 1: Airbus AOT A300-78A0024, dated May 29, 2002, refers to Middle River Aircraft Systems CF6-50 Alert Service Bulletin 78A3040, Revision 2, dated June 18, 2004 (including Honeywell Service Bulletin 121332-78-1620, Revision 2, dated June 18, 2004), as an additional source of service information for accomplishing the inspections.

Note 2: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Repetitive Inspections/Corrective Actions

(h) Within 36 months after the effective date of this AD, or within 8,000 flight hours after accomplishing the actions required by paragraph (g) of this AD, whichever is first: Do a detailed inspection of the DPV and the associated control mechanism of the thrust reverser for incorrect assembly or excessive wear, by doing all the applicable actions, including all applicable corrective actions, in accordance with Airbus Service Bulletin A300-78-0025, Revision 01, excluding Appendix 01, dated February 16, 2005. All applicable corrective actions must be done before further flight; however, the affected thrust reverser may be deactivated and the airplane operated in accordance with the limitations of the MMEL for operations with one or more thrust reversers inoperative. Repeat the inspection thereafter at intervals not to exceed 8,000 flight hours.

Note 3: Airbus Service Bulletin A300-78-0025, Revision 01, dated February 16, 2005, refers to Middle River Aircraft Systems Component Maintenance Manual 78-31-06, Revision 10, dated May 31, 2005, as an additional source of service information for replacing defective components.

Actions Accomplished Previously

(i) Inspections and corrective actions done before the effective date of this AD in accordance with Airbus Service Bulletin A300-78-0025, dated July 21, 2004, are acceptable for compliance with the corresponding requirements of paragraph (h) of this AD.

Alternative Methods of Compliance (AMOCs)

(j)(1) The Manager, International Branch, ANM-116, Transport Airplane Directorate, FAA, has the authority to approve AMOCs for this AD, if requested in accordance with the procedures found in 14 CFR 39.19.

(2) AMOCs approved previously in accordance with AD 2002-08-51, are not approved as AMOCs with this AD.

(3) Before using any AMOC approved in accordance with § 39.19 on any airplane to which the AMOC applies, notify the appropriate principal inspector in the FAA Flight Standards Certificate Holding District Office.

Related Information

(k) French airworthiness directives 2002-293(B), dated June 12, 2002, and F-2005-208, dated December 21, 2005, also address the subject of this AD.

Material Incorporated by Reference

(l) You must use Airbus All Operators Telex A300-78A0024, dated May 29, 2002; Airbus Service Bulletin A300-78-0025, Revision 01, excluding Appendix 01, dated February 16, 2005; and Airbus All Operators Telex A300/78A0023, dated April 5, 2002; as applicable, to perform the actions that are required by this AD, unless the AD specifies otherwise.

(1) The Director of the Federal Register approved the incorporation by reference of Airbus All Operators Telex A300-78A0024, dated May 29, 2002; and Airbus Service Bulletin A300-78-0025, Revision 01, excluding Appendix 01, dated February 16, 2005; in accordance with 5 U.S.C. 552(a) and 1 CFR part 51. (The document number and date of Airbus All Operators Telex A300-78A0024, are indicated only on the first page; no other page of the document contains this information.)

(2) On May 6, 2002 (67 FR 21569, May 1, 2002), the Director of the Federal Register approved the incorporation by reference of Airbus All Operators Telex A300/78A0023, dated April 5, 2002.

(3) Contact Airbus, 1 Rond Point Maurice Bellonte, 31707 Blagnac Cedex, France, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on March 26, 2007.
Ali Bahrami,
Manager, Transport Airplane Directorate, Aircraft Certification Service.

[FR Doc. E7-6229 Filed 4-4-07; 8:45 am]

BILLING CODE 4910-13-P